DEPARTMENT OF HEALTH AND HUMAN SERVICES

Administration for Children and Families

Proposed Information Collection Activity; Child Care and Development Fund Plan Preprint for States/Territories for FFY 2025-2027 (ACF-118) and Extension of Child Care and Development Fund Plan Preprint for States/Territories for FFY 2022-2024 (OMB #0970-0114)

AGENCY: Office of Child Care; Administration for Children and Families; U.S. Health and Human Services.

ACTION: Request for public comments.

SUMMARY: The Administration for Children and Families (ACF) is requesting an extension without changes of the form ACF-118: Child Care and Development Fund Plan Preprint for States/Territories for FFY 2022-2024 (OMB #0970-0114, expiration 02/29/2024), and an additional 3-year extension of the form ACF-118: Child Care and Development Fund Plan Preprint for States/Territories for FFY 2025-2027. There are changes requested to the form ACF-118: Child Care and Development Fund Plan Preprint for States/Territories for FFY 2025-2027 to improve formatting, collect additional information about program implementation, and streamline questions.

DATES: Comments due within 60 days of publication. In compliance with the requirements of section 3506(c)(2)(A) of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Child Care and Development Fund (CCDF) Plan (the Plan) for States and Territories is required from each CCDF Lead agency in accordance with Section 658E of the Child Care and Development Block Grant Act of 1990 (CCDBG Act), as amended, CCDBG Act of 2014 (Pub. L. 113-186), and 42 U.S.C. 9858. The Plan, submitted on the ACF-118, is required triennially and remains in effect for 3 years. The Plan provides ACF and the public with a description of and assurance about the states' and territories' child care programs. These Plans are the applications for CCDF funds.

At this time, the ACF Office of Child Care (OCC) is proposing an extension of the approval of the currently approved CCDF Plan Preprint for FFY 2022-2024 to allow states and territories to continue to submit amendments through September 30, 2024, as required. There are no changes proposed to the FFY 2022-2024 Plan Preprint. In addition, OCC is requesting comments on the proposed CCDF Plan Preprint for FFY 2025-2027. Updates were made to clarify questions, enhance the ability to align data with OCC monitoring data, reflect equity and other OCC priorities, ensure alignment with federal requirements, and facilitate grantee submission in the Child Care Automated Reporting System (CARS) data system.

Respondents: State and Territory Lead Agencies.

Annual Burden Estimates
Instrument | Total number of respondents | Total number of responses per respondent | Average burden hours per response | Total burden hours | Annual burden hours
Child Care and Development Fund for States and Territories (ACF-118) | 56 | 0.33 | 200 | 3,696 | 1,232

Estimated Total Annual Burden Hours: 1,232; however, since Plans are required triennially, and remain in effect for 3 years, the actual Total Burden Hours is 3,696.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Pub. L. 113-186 and 42 U.S.C. 9858.

Mary B. Jones,
ACF/OPRE Certifying Officer.

[FR Doc. 2023-13676 Filed 6-27-23; 8:45 am]

BILLING CODE 4184-87-P